DEPARTMENT OF JUSTICE

Drug Enforcement Administration

[Docket No. DEA-914]

Bulk Manufacturer of Controlled Substances Application: Organic Consultants, LLC. DBA Cascade Chemistry

AGENCY: Drug Enforcement Administration, Justice.

ACTION: Notice of application.

SUMMARY: Organic Consultants, LLC. DBA Cascade Chemistry, has applied to be registered as a bulk manufacturer of basic class(es) of controlled substance(s). Refer to Supplementary Information listed below for further drug information.

DATES: Registered bulk manufacturers of the affected basic class(es), and applicants therefore, may file written comments on or objections to the issuance of the proposed registration on or before December 21, 2021. Such persons may also file a written request for a hearing on the application on or before December 21, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on September 9, 2021, Organic Consultants, LLC. DBA Cascade Chemistry, 90 North Polk Street, Suite 200, Eugene, Oregon 97402-4109, applied to be registered as a bulk manufacturer of the following basic class(es) of controlled substance(s):

Controlled substance | Drug code | Schedule
Amphetamine | 1100 | II
Methylphenidate | 1724 | II
Nabilone | 7379 | II
Codeine | 9050 | II
Oxycodone | 9143 | II
Hydromorphone | 9150 | II
Hydrocodone | 9193 | II
Methadone | 9250 | II
Methadone intermediate | 9254 | II
Morphine | 9300 | II
Thebaine | 9333 | II
Oxymorphone | 9652 | II
Fentanyl | 9801 | II

The company plans to bulk manufacture small quantities of the listed controlled substances for internal use or for sale as analytical reference standard materials to its customers. No other activities for these drug codes are authorized for this registration.

Brian S. Besser,
Acting Assistant Administrator.

[FR Doc. 2021-23038 Filed 10-21-21; 8:45 am]

BILLING CODE P